DEPARTMENT OF THE INTERIOR

Bureau of Land Management

[NM-040-01-1310-PB]

Field Office Name Change

AGENCY: The Bureau of Land Management, Department of the Interior.

ACTION: Oklahoma Field Office name change.

SUMMARY: Effective April 12, 2001, the Bureau of Land Management's Tulsa Field Office and Moore Field Station officially changed to one name. While continuing to serve the public from two physical sites, both locations are now considered the Oklahoma Field Office. The name change is intended to reinforce BLM's goal of serving its customers as one Oklahoma team. In addition, the Oklahoma Field Office retains its respective jurisdictional duties within Oklahoma, Kansas, New Mexico, and Texas.

FOR FURTHER INFORMATION CONTACT: Christine Tincher, Bureau of Land Management, Oklahoma Field Office, 221 N. Service Road, Moore, Oklahoma 73160, telephone (405) 790-1009.

Dated: August 6, 2001.
John Mehlhoff,
Oklahoma Field Manager.

[FR Doc. 01-21058 Filed 8-20-01; 8:45 am]

BILLING CODE 4310-FB-P